DEPARTMENT OF DEFENSE

Department of the Army

[Docket ID: USA-2016-HQ-0032]

Privacy Act of 1974; System of Records

AGENCY: Department of the Army, DoD.

ACTION: Notice to alter a System of Records.

SUMMARY: Pursuant to the Privacy Act of 1974, 5 U.S.C. 552a, and Office of Management and Budget (OMB) Circular No. A-130, notice is hereby given that the Department of the Army proposes to alter a system of records, A0001-20 SALL, entitled “Congressional Inquiry File,” last published at 66 FR 13054, March 2, 2001. The system of records exists to respond to inquiries from members of Congress who request information from the Department of Defense on behalf of their constituents.

This update reflects considerable administrative changes that in sum warrant an alteration to the systems of records notice. The applicable DoD Routine Uses have been incorporated in the notice to provide clarity for the public. There are also modifications to the system location, categories of individuals, categories of records, authority, purpose, routine uses, storage, retrievability, safeguards, retention and disposal, system managers and address, notification and record access procedures, and contesting record procedures to improve readability and update the notice to meet current departmental standards.

DATES: Comments will be accepted on or before October 11, 2016. This proposed action will be effective on the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Tracy Rogers, Department of the Army, Privacy Office, U.S. Army Records Management and Declassification Agency, 7701 Telegraph Road, Casey Building, Suite 144, Alexandria, VA 22315-3827 or by phone at 703-428-7499.

SUPPLEMENTARY INFORMATION: The Department of the Army systems of records notices subject to the Privacy Act of 1974 (5 U.S.C. 552a), as amended, have been published in the Federal Register and are available from the address in FURTHER INFORMATION CONTACT or at the Defense Privacy, Civil Liberties, and Transparency Division Web site at http://dpcld.defense.gov/. The proposed system report, as required by 5 U.S.C 552a(r) of the Privacy Act of 1974, as amended, was submitted on August 19, 2016, to the House Committee on Oversight and Government Reform, the Senate Committee on Governmental Affairs, and the Office of Management and Budget (OMB) pursuant to paragraph 4 of Appendix I of OMB Circular No. A-130, “Federal Agency Responsibilities for Maintaining Records About Individuals,” revised November 28, 2000 (December 12, 2000 65 FR 77677).

Dated: September 6, 2016.
Aaron Siegel,
Alternate OSD Federal Register Liaison Officer, Department of Defense.

A0001-20 SALL

System name:

Congressional Inquiry File (March 2, 2001, 66 FR 13054)

Changes:

* * * * *

System location:

Delete entry and replace with “Chief, Congressional Inquiry Division, Office of the Chief of the Legislative Liaison, Office of the Secretary of the Army, 1600 Army Pentagon, Washington, DC 20310-1600.”

Categories of individuals covered by the system:

Delete entry and replace with “Individuals who write to a Member of Congress requesting that the Member solicit information from the Department of the Army on their behalf.”

Categories of records in the system:

Delete entry and replace with “Individual's name and correspondence to the Member of Congress, Congressional Member's name, date of the Member's correspondence or email to the Army, Department of the Army's correspondence in response to the inquiry, inquiry tracking number, and relevant supporting documentation.

Records may include personally identifiable information (PII) as volunteered by the individual in correspondence or documentation received from the Congressional Member. Such information is not requested by or disclosed from the department in administration of these records.”

Authority for maintenance of the system:

Delete entry and replace with “10 U.S.C. 1034, Protected Communications; Prohibition of Retaliatory Personnel Actions; 10 U.S.C. 3013, Secretary of the Army; DoD Instruction 5400.04, Provision of Information to Congress; Army Regulation 1-20, Legislative Liaison.”

Purpose(s):

Delete entry and replace with “To conduct necessary research and/or investigations to provide information responsive to Congressional inquiries.”

Routine uses of records maintained in the system, including categories of users and the purpose of such uses:

Delete entry and replace with “In addition to those disclosures generally permitted under 5 U.S.C. 552a(b) of the Privacy Act of 1974, as amended, these records contained therein may specifically be disclosed outside the DoD as a routine use pursuant to 5 U.S.C. 552a(b)(3) as follows:

Congressional Inquiries Disclosure Routine Use: Disclosure from a system of records maintained by a DoD Component may be made to a congressional office from the record of an individual in response to an inquiry from the congressional office made at the request of that individual.

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Army's compilation of systems of records notices may apply to this system. The complete list of DoD Blanket Routine Uses can be found online at: http://dpcld.defense.gov/Privacy/SORNsIndex/BlanketRoutineUses.aspx.”

Policies and practices for storing, retrieving, accessing, retaining, and disposing of records in the system:

Storage:

Delete entry and replace with “Electronic storage media.”

Retrievability:

Delete entry and replace with “Individual's full name, date of the Congressional Member's correspondence, Congressional Member's name, and subject of the inquiry.”

Safeguards:

Delete entry and replace with “Records are maintained on a password protected network accessible to authorized personnel only. Approved users ensure that electronic records used are maintained in controlled areas accessible only to authorized personnel. Access to electronic files is restricted by use of common access cards (CACs) and is accessible only by users with an authorized account. The systems are maintained in controlled facilities that employ physical restrictions and safeguards such as security guards, identification badges, key cards and locks.”

Retention and disposal:

Delete entry and replace with “Information on congressional inquiries on all matters within the scope and activity of the Department of the Army are maintained for two years, then purged from the system.”

System manager(s) and address:

Delete entry and replace with “Chief, Congressional Inquiry Division, Office of the Chief of the Legislative Liaison, Office of the Secretary of the Army, 1600 Army Pentagon, Washington, DC 20310-1600.”

Notification procedure:

Delete entry and replace with “Individuals seeking to determine if information about themselves is contained in this system should address written inquiries to the Chief, Congressional Inquiry Division, Office of the Chief of the Legislative Liaison, Office of the Secretary of the Army, 1600 Army Pentagon, Washington, DC 20310-1600.

For verification purposes requests should include the individual's full name, the Congressional Member's name, and subject of the inquiry.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: 'I declare (or certify, verify, or state) under penalty of perjury that the foregoing is true and correct. Executed on (date). (Signature).' ”

Record access procedures:

Delete entry and replace with “Individuals seeking access to information about themselves contained in this system should address written inquiries to the Chief, Congressional Inquiry Division, Office of the Chief of the Legislative Liaison, Office of the Secretary of the Army, 1600 Army Pentagon, Washington, DC 20310-1600.

For verification purposes requests should include the individual's full name, the Congressional Member's name, and subject of the inquiry.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

Contesting record procedures:

Delete entry and replace with “The Army's rules for accessing records, and for contesting contents and appealing initial agency determinations are contained in 32 CFR part 505, Army Privacy Program or may be obtained from the system manager.”

* * * * *

[FR Doc. 2016-21768 Filed 9-8-16; 8:45 am]

BILLING CODE 5001-06-P